DEPARTMENT OF HEALTH AND HUMAN SERVICES

Substance Abuse and Mental Health Services Administration

Notice of Meeting Center for Mental Health Services

Pursuant to Public Law 92-463, notice is hereby given that the Substance Abuse and Mental Health Services Administration (SAMHSA) Center for Mental Health Services (CMHS) National Advisory Council (NAC) on February 1, 2017, from 9:00 a.m. to 5:15 p.m. E.D.T.

The meeting will include discussion of the Center's policy issues, and current administrative, legislative, and program developments and a conversation with the SAMHSA Principal Deputy Administrator, and the SAMHSA Chief Medical Officer.

The meeting will be held at the SAMHSA building, 5600 Fishers Lane, 5th Floor, Conference Room 5W07, Rockville, MD 20857. Attendance by the public will be limited to space available. Interested persons may present data, information, or views, orally or in writing, on issues pending before the committee. Written submissions should be forwarded to the contact person (below) on or before January 18, 2017. Oral presentations from the public will be scheduled at the conclusion of the meeting. Individuals interested in making oral presentations are encouraged to notify the contact on or before January 18, 2017. Five minutes will be allotted for each presentation.

The meeting can be accessed via telephone. To attend on site, obtain the call-in number and access code, submit written or brief oral comments, or request special accommodations for persons with disabilities, please register at the SAMHSA's Advisory Committees Web site at http://nac.samhsa.gov/Registration/meetingsRegistration.aspx or contact Pamela Foote (see contact information below).

Substantive meeting information and a roster of Committee members may be obtained either by accessing the SAMHSA Committees' Web site http://www.samhsa.gov/about-us/advisory-councils/cmhs-national-advisory-council or by contacting Ms. Foote.

Committee Name: Substance Abuse and Mental Health Services Administration, Center for Mental Health Services National Advisory Council.

Dates/Time/Type: Wednesday, February 1, 2017, 9:00 a.m. to 5:15 p.m. EDT: OPEN.

Place: SAMHSA, 5600 Fishers Lane, 5th Floor, Conference Room 5W07, Rockville, Maryland 20857.

Contact: Pamela Foote, Acting Designated Federal Official, SAMHSA CMHS National Advisory Council, 5600 Fishers Lane, Room 14E53C, Rockville, Maryland 20857, Telephone: (240) 276-1279, Fax: (301) 480-8491, Email: pamela.foote@samhsa.hhs.gov.

Carlos Castillo,
Committee Management Officer, Substance Abuse and Mental Health Services Administration.

[FR Doc. 2016-29949 Filed 12-13-16; 8:45 am]

BILLING CODE 4162-20-P